SMALL BUSINESS ADMINISTRATION

Buffalo District Advisory Council; Public Meeting

The U.S. Small Business Administration Buffalo District Advisory Council located in the geographical area of Buffalo, New York, will hold a public meeting on Wednesday, April 12, 2006, starting at 10 a.m. eastern standard time. The meeting will take place at the First Niagara Bank, 6950 S. Transit Road, Lockport, New York. The purpose of the meeting is to provide advice and opinions regarding the effectiveness of and need for SBA Programs, particularly within the local districts, with members present, and staff of the U.S. Small Business Administration, or others present.

Anyone wishing to make an oral presentation to the Board must contact Franklin J. Sciortino, District Director, Buffalo District Office, in writing by letter or fax no later than Friday, March 31, 2006 in order to be put on the agenda. Franklin J. Sciortino, District Director, Buffalo District Office, U.S. Small Business Administration, Niagara Center, 540 Niagara Center, 130 S. Elmwood Avenue, Buffalo, New York 14202; telephone (716) 551-4301 or fax (716) 551-4418; Franklin.Sciortino@sba.gov.

Matthew K. Becker,
Committee Management Officer.

[FR Doc. E6-3952 Filed 3-17-06; 8:45 am]

BILLING CODE 8025-01-P